ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Tuesday and Wednesday, May 11-12, 2010, at the times and location noted below. A public hearing will also be held on the morning of May 12, 2010.

DATES: The schedule of events is as follows:

Tuesday, May 11, 2010

10-11 a.m. Briefing on Passenger Vessels Proposed Rule (closed to public).

11-2:30 p.m. Planning and Evaluation Committee.

2:30-3 Budget committee.

3-3:30 Ad Hoc Committee on Frontier Issues (closed to public).

3:30-5 Ad Hoc Committee on Medical Diagnostic Equipment (closed to public).

Wednesday, May 12, 2010

9-Noon Public Hearing on Information and Communication Technology Standards and Guidelines.

1:30-3 p.m. Board Meeting.

ADDRESSES: All meetings will be held at the Embassy Suites DC Convention Center Hotel, located at 900 10th Street, NW., Washington, DC 20001.

FOR FURTHER INFORMATION CONTACT: For further information regarding the meetings, please contact David Capozzi, Executive Director, (202) 272-0010 (voice) and (202) 272-0082 (TTY).

SUPPLEMENTARY INFORMATION: The Board will hold a public hearing on its refresh of accessibility criteria for information and communications technologies covered by the Rehabilitation Act (section 508) and the Telecommunications Act (section 255). The hearing will take place on Wednesday, May 12, 2010 from 9 a.m. to noon. Details of this hearing were published in the Federal Register on April 13, 2010 (75 FR 18781). At the Board meeting scheduled on the afternoon of Wednesday, May 12, 2010, the Access Board will consider the following agenda items:

• Approval of the draft March 31, 2010 meeting minutes.

• Budget Committee Report.

• Planning and Evaluation Committee Report.

• Ad Hoc Committee Reports.

• Executive Director's Report.

• ADA and ABA Guidelines; Federal Agency Updates.

All meetings are accessible to persons with disabilities. An assistive listening system, computer assisted real-time transcription (CART), and sign language interpreters will be available at the Board meetings and public hearing. Persons attending Board meetings are requested to refrain from using perfume, cologne, and other fragrances for the comfort of other participants (see http://www.access-board.gov/about/policies/fragrance.htm for more information).

David M. Capozzi,
Executive Director.

[FR Doc. 2010-9723 Filed 4-26-10; 8:45 am]

BILLING CODE 8150-01-P